NATIONAL AERONAUTICS AND SPACE ADMINISTRATION

[Notice: 024-031]

NASA Advisory Council; Meeting

AGENCY: National Aeronautics and Space Administration.

ACTION: Notice of meeting.

SUMMARY: In accordance with the Federal Advisory Committee Act, the National Aeronautics and Space Administration (NASA) announces a meeting of the NASA Advisory Council (NAC).

DATES: Wednesday, May 8, 2024, 9:30 a.m. to 5 p.m. eastern time; and Thursday, May 9, 2024, 9 a.m. to 12 p.m. eastern time.

ADDRESSES: NASA Headquarters 300 E St. SW, Washington, DC 20546, Virtual and WebEx.

FOR FURTHER INFORMATION CONTACT: Ms. Lisa M. Hackley, Administrative Officer, NASA Headquarters, Washington, DC 20546, 202-358-1947, lisa.m.hackley@nasa.gov.

SUPPLEMENTARY INFORMATION: This meeting will only be available by Webex or telephonically for members of the public. If dialing in via toll number, you must use a touch-tone phone to participate in this meeting. Any interested person may join via Webex on Tuesday, May 8th at https://nasaenterprise.webex.com, the meeting number is 2823 151 8214, and the password is xPtEgyc$383. To join by telephone call, use US Toll +1-415-527-5035 (Access code: 2823 151 8214). You may join via Webex on Thursday, May 9th at https://nasaenterprise.webex.com, the meeting number is 2824 875 3828, and the password is wwVsWCE$264. To join by telephone call, use US Toll +1-415-527-5035 (Access code 2824 875 3828).

The agenda for the meeting will include reports on the following NAC priority focus areas:

—Climate Change

—Commercial and Industry Partnerships

—Diversity, Equity, Inclusion and Accessibility

—International Collaboration

—Program Management and Acquisition

The agenda for the meeting will also include reports from the following NAC committees:

—Aeronautics Committee

—Human Exploration and Operations Committee

—Science Committee

—STEM Engagement Committee

—Technology, Innovation and Engineering Committee

It is imperative that the meeting be held on this date to accommodate the scheduling priorities of the key participants.

Carol J. Hamilton,
Acting Advisory Committee Management Officer, National Aeronautics and Space Administration.

[FR Doc. 2024-08072 Filed 4-17-24; 8:45 am]

BILLING CODE 7510-13-P